FEDERAL COMMUNICATIONS COMMISSION

Information Collection Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communication Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written comments should be submitted on or before July 31, 2014. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov <mailto:PRA@fcc.gov> and to Cathy.Williams@fcc.gov. Include in the comments the OMB control number as shown in the Supplementary Information section below.

FOR FURTHER INFORMATION CONTACT: For additional information or copies of the information collection, contact Cathy Williams at (202) 418-2918. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION:

OMB Control No.: 3060-0678.

Title: Part 25 of the Federal Communications Commission's Rules Governing the Licensing of, and Spectrum Usage by, Commercial Earth Stations and Space Stations.

Form No.: FCC Form 312; Schedule S; Schedule B; Schedule A; FCC Form 312-EZ; FCC Form 312-R.

Type of Review: Revision of a currently approved information collection.

Respondents: Business or other for-profit entities.

Number of Respondents: 4,880 respondents; 4,928 responses.

Estimated Time per Response: 0.5-80 hours per response.

Frequency of Response: On occasion, one time and annual reporting requirements; third-party disclosure requirement; recordkeeping requirement.

Obligation to Respond: Required to obtain or retain benefits. The statutory authority for this collection is contained in 47 U.S.C. 154, 301, 302, 303, 307, 308, 309, 332 and 705 unless otherwise noted.

Total Annual Burden: 34,155 hours.

Annual Cost Burden: $9,998,785.

Privacy Act Impact Assessment: No impact(s).

Nature and Extent of Confidentiality: In general, there is no need for confidentiality with this collection of information.

Needs and Uses: On August 9, 2013, the Federal Communications Commission (Commission) released a Report and Order (R&O) titled, “In the Comprehensive Review of Licensing and Operating Rules for Satellite Services.” FCC 13-111. In this R&O, the Commission adopted comprehensive changes to Part 25 of the Commission's rules, which governs licensing and operation of space stations and earth stations for the provision of satellite communication services. Many of the amendments are substantive changes intended to afford licensees as much operational flexibility as possible consistent with minimizing harmful interference and easing administrative burdens on licensees, applicants, and the Commission. Additionally, this information collection is revised by incorporating existing separate information collection requirements under Part 25 into this information collection. Specifically, the revision of OMB Control No. 3060-0678 (Part 25 of the Commission's Rules) will consolidate information collections that are currently under OMB Control Nos. 3060-0768 (28 GHz Band Segmentation Plan), 3060-0955 (2 GHz Mobile Satellite Service Reports), 3060-0962 (Redesignation of the 18 GHz Band), 3060-0994 (Flexibility for Delivery of Communications by MSS Providers), 3060-1013 (Mitigation of Orbital Debris), 3060-1014 (Ku-band NGSO FSS), 3060-1059 (Global Mobile Personal Communications by Satellite (GMPCS)/E911 Call Centers), 3060-1061 (Earth Stations on Board Vessels (ESVs)), 3060-1066 (Renewal of Application for Satellite Space and Earth Station Authorization), 3060-1067 (Qualification Questions), 3060-1095 (Surrenders of Authorizations), 3060-1097 (Rules for Broadcasting Satellite Service), 3060-1106 (Vehicle Mounted Earth Stations (VMES)), 3060-1108 (Consummation of Assignments and Transfers of Control), 3060-1153 (Satellite Digital Radio Service (SDARS)), and 3060-1187 (Earth Stations Aboard Aircraft (ESAA)). Therefore, the number of respondents, number of responses, annual burden hours and annual costs have been amended from the previous submission that was approved by the Office of Management and Budget (OMB) on March 13, 2013.

The information collection requirements accounted for in this collection are needed to determine the technical and legal qualifications of applicants or licensees to operate a station and to determine whether the authorization is in the public interest, convenience and necessity. Without such information, the Commission could not determine whether to permit respondents to provide telecommunications services in the United States. Therefore, the Commission would not be able to fulfill its statutory responsibilities in accordance with the Communications Act of 1934, as amended, and the obligations imposed on parties to the World Trade Organization (WTO) Basic Telecom Agreement.

Federal Communications Commission.
Marlene H. Dortch,
Secretary, Office of the Secretary, Office of Managing Director.

[FR Doc. 2014-15302 Filed 6-30-14; 8:45 am]

BILLING CODE 6712-01-P